DEPARTMENT OF LABOR

Office of the Secretary

Submission for OMB Emergency Review: Comment Request

March 20, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by April 6, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov. Comments and questions about the ICR listed below should be received 5 days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title of Collection: Planning Guidance for Indian and Native American Program (INAP) and Senior Community Service Employment Program (SCSEP) Recovery Act Grants.

OMB Control Number: Pending.

Frequency of Collection: One time collection.

Affected Public: INAP and SCSEP Grantees.

Estimated Time per Respondent: 16 hours.

Total Estimated Number of Respondents: 219.

Total Estimated Annual Burden Hours: 3,504.

Description: In February of 2009, ETA's Senior Community Service Employment Program (SCSEP) and the Indian and Native American Programs (INAP), received additional funds authorized by Title VIII of section A of the American Recovery and Reinvestment Act (ARRA). ETA is seeking emergency approval for Training and Employment Guidance Letters (TEGLs) issued by these programs in order to obligate Recovery Act Funds, as directed by the Congress and the President.

Why are we requesting Emergency Processing? If DOL were to comply with standard PRA clearance procedures, it would not be able to comply with the ARRA-mandated payment schedule because procedures for these payments must be in place immediately. The statute provides that INAP and SCSEP grantees need the means to access the funds as soon as possible. Otherwise, harm to the nation's economic recovery could ensue. Finally, in preparing the guidelines, the Department has taken all necessary steps to consult with INAP and SCSEP grantees in order to minimize the burden of collecting the information while adhering to ARRA payment and monitoring provisions.

Darrin A. King,
Departmental Clearance Officer.

[FR Doc. E9-6688 Filed 3-25-09; 8:45 am]

BILLING CODE 4510-FN-P